FEDERAL MARITIME COMMISSION

[Docket No. 02-02]

Canaveral Port Authority—Possible Violations of Section 10(b)(10), Unreasonable Refusal to Deal or Negotiate; Notice of Show Cause Proceeding

Notice is given that, on February 25, 2002, the Federal Maritime Commission (“Commission”) served an Order to Show Cause (“Order”) on the Canaveral Port Authority (“Port”).

It appears that the Port has refused to consider the application of Tugz International LLC (“Tugz”) for a franchise to perform tug and towing services. This refusal appears to have the effect of preventing competition and of maintaining a monopoly for the single tug company in the port.

The Order directs the Port to show cause why it should not be found in violation of section 10(b)(10) of the 1984 Act, 46 U.S.C. app. sec. 1709(b)(10), for its refusal to consider Tugz' application.

The Order's full text may be viewed on the Commission's homepage at http://www.fmc.gov. or at the Office of the Secretary, Room 1046, 800 N. Capitol Street, NW., Washington, DC. Any person having an interest and desiring to intervene in this proceeding shall file a petition for leave to intervene in accordance with Rule 72 of the Commission's rules of practice and procedure, 46 CFR thnsp;502.72 and the procedural schedule set forth in the Commission's February 25 Order.

Bryant L. VanBrakle,
Secretary,

[FR Doc. 02-6078 Filed 3-12-02; 8:45 am]

BILLING CODE 6730-01-M